DEPARTMENT OF TRANSPORTATION

Federal Aviation Administration

14 CFR Part 39

[Docket No. FAA-2010-0956; Directorate Identifier 2010-NM-018-AD]

RIN 2120-AA64

Airworthiness Directives; Transport Category Airplanes

AGENCY: Federal Aviation Administration (FAA), Department of Transportation (DOT).

ACTION: Notice of proposed rulemaking (NPRM).

SUMMARY: The FAA proposes to revise an existing airworthiness directive (AD) that applies to transport category airplanes that have one or more lavatories equipped with paper or linen waste receptacles. The existing AD currently requires installation of placards prohibiting smoking in the lavatory and disposal of cigarettes in the lavatory waste receptacles; establishment of a procedure to announce to airplane occupants that smoking is prohibited in the lavatories; installation of ashtrays at certain locations; and repetitive inspections to ensure that lavatory waste receptacle doors operate correctly. This proposed revision to the AD would extend the time an airplane may be operated with certain missing ashtrays. This proposed revision to the AD was prompted by the determination that certain compliance times required by the existing AD could be extended and still address fires occurring in lavatories caused by, among other things, the improper disposal of smoking materials in lavatory waste receptacles. The proposed revision to the AD would continue to prevent possible fires that could result from smoking materials being dropped into lavatory paper or linen waste receptacles.

DATES: We must receive comments on this proposed AD by November 22, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Alan Sinclair, Aerospace Engineer, Airframe/Cabin Safety Branch, ANM-115, Transport Airplane Directorate, FAA, 1601 Lind Avenue, SW., Renton, Washington 98057-3356; telephone 425-227-2195; fax 425-227-1232.

SUPPLEMENTARY INFORMATION:

Comments Invited

We invite you to send any written relevant data, views, or arguments about this proposed AD. Send your comments to an address listed under the ADDRESSES section. Include “Docket No. FAA-2010-0956; Directorate Identifier 2010-NM-018-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 17, 1996, we issued AD 74-08-09 R2, amendment 39-9680 (61 FR 32318, June 24, 1996), for transport category airplanes that have one or more lavatories equipped with paper or linen waste receptacles. Revision 2, as well as previous versions of the AD, requires installation of placards prohibiting smoking in the lavatory and disposal of cigarettes in the lavatory waste receptacles; establishment of a procedure to announce to airplane occupants that smoking is prohibited in the lavatories; installation of ashtrays at certain locations; and repetitive inspections to ensure that lavatory waste receptacle doors operate correctly. The original AD resulted from fires occurring in lavatories caused by, among other things, the improper disposal of smoking materials in lavatory waste receptacles. We issued that AD, and subsequent versions of the AD, to prevent possible fires that could result from smoking materials being dropped into lavatory paper or linen waste receptacles.

Actions Since Existing AD Was Issued

Since we issued AD 74-08-09 R2, we have been advised that the current required replacement schedule for missing or inoperative ashtrays may be overly conservative and burdensome on operators. We have determined that slightly extending the time an airplane may be operated with missing or inoperative ashtrays will not compromise safety. We have adjusted the compliance time accordingly in paragraph (j) of this NPRM.

FAA's Determination and Requirements of the Proposed AD

We have evaluated all pertinent information and identified that an unsafe condition continues to exist or could develop on any transport category airplane that has one or more lavatories equipped with paper or linen waste receptacles. For this reason, we are proposing this AD, which would revise AD 74-08-09 R2 and would retain the requirements of the existing AD. This proposed AD would simply extend the time an airplane may be operated with some ashtrays missing or inoperative.

Changes to Existing AD

We have added paragraph (m) to this proposed AD to include the standard provision for operators to request approval of an alternative method of compliance (AMOC). This provision did not appear in AD 74-08-09 R2. Since the issuance of that AD, we issued Part 252 of the Federal Aviation Regulations (14 CFR part 252), “Smoking Aboard Aircraft,” which bans smoking of tobacco products on certain flights. Therefore, the risk associated with the identified unsafe condition in this proposed AD has been reduced significantly. In light of this, we have determined that an AMOC provision may be added to this proposed AD.

We have revised the applicability of AD 74-08-09 R2 to provide the list of manufacturers of current known transport category airplanes holding U.S. type certificates.

This proposed AD would retain the requirements of AD 74-08-09 R2. Since AD 74-08-09 R2 was issued, the AD format has been revised, and certain paragraphs have been rearranged. As a result, the corresponding paragraph identifiers have changed in this proposed AD, as listed in the following table:

Revised Paragraph Identifiers
Requirement in AD 74-08-09 R2 | Corresponding requirement in this proposed AD
paragraph (a) | paragraph (g).
paragraph (b) | paragraph (h).
paragraph (c) | paragraph (i).
paragraph (d) | paragraph (j).
paragraph (e) | paragraph (k).
paragraph (f) | paragraph (l).

Costs of Compliance

This action merely extends a certain compliance time and does not add any new additional economic burden on affected operators. The relief provided by this proposed AD would allow operators to continue to operate airplanes without the required number of ashtrays for a longer period of time than was previously permitted. This will result in reduced costs to affected operators since it will reduce the potential interruptions in service to reinstall the ashtrays. The current costs associated with this AD are provided below for the convenience of affected operators. The following table provides the estimated costs for U.S. operators to comply with this proposed AD.

Estimated Costs
Action | Work hours | Average labor rate per hour | Parts | Cost per airplane
Placard installations | 1 | $85 | Negligible | $85.
Inspections | 2 | $85 | $0 | $170 per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and place it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-9680 (61 FR 32318, June 24, 1996) and adding the following new AD:

Transport Category Airplanes: Docket No. FAA-2010-0956; Directorate Identifier 2010-NM-018-AD.

Comments Due Date

(a) The FAA must receive comments on this AD action by November 22, 2010.

Affected ADs

(b) This AD revises AD 74-08-09 R2, Amendment 39-9680.

Applicability

(c) This AD applies to transport category airplanes, certificated in any category, that have one or more lavatories equipped with paper or linen waste receptacles. These lavatories may be on various airplanes, identified in but not limited to the airplanes of the manufacturers included in Table 1 of this AD.

Table 1—Affected Airplanes
Airplane manufacturer
328 Support Services GmbH (Type Certificate previously held by AvCraft Aerospace GmbH; Fairchild Dornier GmbH; Dornier Luftfahrt GmbH).
AEROSPATIALE (Societe Nationale Industrielle Aerospatiale).
Airbus.
ATR—GIE Avions de Transport Régional.
BAE Systems (Operations) Limited.
The Boeing Company.
Bombardier, Inc.
British Aerospace Regional Aircraft.
Cessna Aircraft Company.
DASSAULT AVIATION.
EADS CASA (Type Certificate previously held by Construcciones Aeronauticas, S.A.).
Empresa Brasileira de Aeronautica S.A. (EMBRAER).
Fokker Services B.V.
Gulfstream Aerospace Corporation/
Gulfstream Aerospace LP (Type Certificate previously held by Israel Aircraft Industries, Ltd.).
Hamburger Flugzeugbau GmbH.
Hawker Beechcraft Corporation (Type Certificate previously held by Raytheon Aircraft Company; Beech Aircraft Corporation).
Israel Aircraft Industries, Ltd.
Learjet Inc.
Lockheed Aircraft Corporation.
Lockheed Martin Corporation/Lockheed Martin Aeronautics Company.
Maryland Air Industries, Inc.
McDonnell Douglas Corporation.
Mitsubishi Heavy Industries, Ltd.
Saab AB, Saab Aerosystems.
Sabreliner Corporation.
Short Brothers PLC.
Vickers-Armstrongs (Aircraft Limited).
Viking Air Limited (Type Certificate previously held by Bombardier, Inc.).

Subject

(d) Air Transport Association (ATA) of America Code 25: Equipment/furnishings.

Unsafe Condition

(e) This revision to the AD was prompted by the determination that certain compliance times required by the existing AD may be extended and still address fires occurring in lavatories caused by, among other things, the improper disposal of smoking materials in lavatory waste receptacles. This proposed revision to the AD would continue to prevent possible fires that could result from smoking materials being dropped into lavatory paper or linen waste receptacles.

Compliance

(f) You are responsible for having the actions required by this AD performed within the compliance times specified, unless the actions have already been done.

Restatement of Requirements of AD 74-08-09 R2, Amendment 39-9680, With Revised Compliance Times in Paragraph (j)

Placard Installation

(g) Within 60 days after August 6, 1974 (the effective date of AD 74-08-09, amendment 39-1917), or before the accumulation of any time in service on a new production aircraft after delivery, whichever occurs later—except that new production aircraft may be flown in accordance with sections 21.197 and 21.199 of the Federal Aviation Regulations (14 CFR 21.197 and 21.199) to a base where compliance may be accomplished: Accomplish the requirements of paragraphs (g)(1) and (g)(2) of this AD.

(1) Install a placard on each side of each lavatory door over the door knob, or on each side of each lavatory door, or adjacent to each side of each lavatory door. The placards must contain the legible words “No Smoking in Lavatory” or “No Smoking,” or contain “No Smoking” symbology in lieu of words, or contain both wording and symbology, to indicate that smoking is prohibited in the lavatory. The placards must be of sufficient size and contrast and be located so as to be conspicuous to lavatory users. And

(2) Install a placard on or near each lavatory paper or linen waste disposal receptacle door, containing the legible words or symbology indicating “No Cigarette Disposal.”

Announcement Procedures

(h) Within 30 days after August 6, 1974, establish a procedure that requires that, no later than a time immediately after the “No Smoking” sign is extinguished following takeoff, an announcement be made by a crewmember to inform all aircraft occupants that smoking is prohibited in the aircraft lavatories; except that, if the aircraft is not equipped with a “No Smoking” sign, the required procedure must provide that the announcement be made prior to each takeoff.

Ashtray Installation

(i) Except as provided by paragraph (j) of this AD: Within 180 days after August 6, 1974, or before the accumulation of any time in service on a new production aircraft, whichever occurs later—except that new production aircraft may be flown in accordance with sections 21.197 and 21.199 of the Federal Aviation Regulations (14 CFR 21.197 and 21.199) to a base where compliance may be accomplished: Install a self-contained, removable ashtray on or near the entry side of each lavatory door. One ashtray may serve more than one lavatory door if the ashtray can be seen readily from the cabin side of each lavatory door served.

(j) An airplane with multiple lavatory doors may be operated with up to 50 percent of the lavatory door ashtrays missing or inoperative, provided 50 percent of the missing or inoperative ashtrays are replaced within 3 days and all remaining missing or inoperative ashtrays are replaced within 10 days. An airplane with only 1 lavatory door may be operated for a period of 10 days with the lavatory door ashtray missing or inoperative.

Note 1: This AD permits a lavatory door ashtray to be missing, although the FAA-approved Master Minimum Equipment List (MMEL) may not allow such provision. In any case, the provisions of this AD prevail.

(k) Within 30 days after August 6, 1974, and thereafter at intervals not to exceed 1,000 hours' time-in-service from the last inspections, accomplish the following:

(1) Inspect all lavatory paper and linen waste receptacle enclosure access doors and disposal doors for proper operation, fit, sealing, and latching for the containment of possible trash fires.

(2) Correct all defects found during the inspections required by paragraph (k)(1) of this AD.

(l) Upon the request of an operator, the FAA Principal Maintenance Inspector (PMI) may adjust the 1,000-hour repetitive inspection interval specified in paragraph (k) of this AD to permit compliance at an established inspection period of the operator if the request contains data to justify the requested change in the inspection interval.

Alternative Methods of Compliance (AMOCs)

(m)(1) The Manager, Airframe/Cabin Safety Branch, Transport Airplane Directorate, FAA, has the authority to approve AMOCs for this AD, if requested using the procedures found in 14 CFR 39.19. Send information to Attn: Alan Sinclair, Aerospace Engineer, Airframe/Cabin Safety Branch, ANM-115, Transport Airplane Directorate, FAA, 1601 Lind Avenue, SW., Renton, Washington 98057-3356; telephone (425) 227-2195; fax 425-227-1232.

(2) To request a different method of compliance or a different compliance time for this AD, follow the procedures in 14 CFR 39.19. Before using any approved AMOC on any airplane to which the AMOC applies, notify your PMI or principal avionics inspector (PAI), as appropriate, or lacking a principal inspector, your local Flight Standards District Office. The AMOC approval letter must specifically reference this AD.

Issued in Renton, Washington, on September 30, 2010.
Ali Bahrami,
Manager, Transport Airplane Directorate, Aircraft Certification Service.

[FR Doc. 2010-25124 Filed 10-5-10; 8:45 am]

BILLING CODE 4910-13-P